DEPARTMENT OF AGRICULTURE

Foreign Agricultural Service

Fiscal Year 2021 Raw Cane Sugar Tariff-Rate Quota Extension of the Entry Period

AGENCY: Foreign Agricultural Service, U.S. Department of Agriculture.

ACTION: Notice.

SUMMARY: The Foreign Agricultural Service of the U.S. Department of Agriculture is providing notice of an extension of the tariff-rate quota (TRQ) entry period for the fiscal year (FY) 2021 raw cane sugar TRQ.

DATES: Applicable: October 29, 2021.

FOR FURTHER INFORMATION CONTACT: Souleymane Diaby, Multilateral Affairs Division, Trade Policy and Geographic Affairs, Foreign Agricultural Service, U.S. Department of Agriculture, Stop 1070, 1400 Independence Avenue SW, Washington, DC 20250-1070; by telephone (202) 720-2916; or by email Souleymane.Diaby@usda.gov.

SUPPLEMENTARY INFORMATION: The Foreign Agricultural Service announces that all sugar entering the United States under the FY 2021 raw sugar TRQ will be permitted to enter U.S. Customs territory through December 31, 2021, two months later than the previous extension of October 31. The Department previously announced on August 24, 2021, that sugar entering under the FY 2021 raw sugar TRQ will be permitted to enter U.S. Customs territory through October 31, 2021, a month later than the usual last entry date. Additional U.S. Note 5(a)(iv) of Chapter 17 of the U.S. Harmonized Tariff Schedule provides: “(iv) Sugar entering the United States during a quota period established under this note may be charged to the previous or subsequent quota period with the written approval of the Secretary.” The Secretary's authority under paragraph (a)(iv) of Additional U.S. Note 5 has been delegated to the Under Secretary for Trade and Foreign Agricultural Affairs (7 CFR 2.26). The Under Secretary has subsequently delegated this authority to the Administrator, Foreign Agricultural Service (7 CFR 2.601).

These actions are being taken after a determination that additional supplies of raw cane sugar are required in the U.S. market. USDA will closely monitor stocks, consumption, imports and all sugar market and program variables on an ongoing basis.

Daniel Whitley,
Administrator, Foreign Agricultural Service.

[FR Doc. 2021-23679 Filed 10-27-21; 11:15 am]

BILLING CODE 3410-10-P